DEPARTMENT OF TRANSPORTATION

Office of the Secretary

[Docket No. DOT-OST-2020-0112]

Request for Comment; Non-Traditional and Emerging Transportation Technology Council; Non-Traditional and Emerging Transportation Technology (NETT) Council

AGENCY: Office of the Secretary (OST), Department of Transportation (DOT).

ACTION: Request for comment.

SUMMARY: The Office of the Secretary of Transportation (OST) invites public comment on the document, Pathways to the Future of Transportation. The pathways document is intended to help readers understand the purposes of the Non-Traditional and Emerging Transportation Technology (NETT) Council and its methods of operation; the principles informing the Department policies in transformative technologies; the high-level overview of the framework for non-traditional and emerging technologies; how the NETT Council will engage with innovators and entrepreneurs to enhance the Nation's transportation system; and the next steps of the NETT Council. The pathways document is available at www.transportation.gov/nettcouncil.

DATES: Comments are requested by September 28, 2020. See the SUPPLEMENTARY INFORMATION section on “Public Participation,” below, for more information about written comments.

Written Comments: Comments should refer to the docket number above and be submitted by one of the following methods:

• Federal Rulemaking Portal: http://www.regulations.gov. Follow the online instructions for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal Holidays.

Instructions: For detailed instructions on submitting comments and additional information on the rulemaking process, see the Public Participation heading of the SUPPLEMENTARY INFORMATION section of this document. Note that all comments received will be posted without change to http://www.regulations.gov, including any personal information provided.

Privacy Act: Except as provided below, all comments received into the docket will be made public in their entirety. The comments will be searchable by the name of the individual submitting the comment (or signing the comment, if submitted on behalf of an associations, business, labor union, etc.). You should not include information in your comment that you do not want to be made public. You may review DOT's complete Privacy Act Statement in the Federal Register published on April 11, 2000 (65 FR 19477-78) or at https://www.transportation.gov/privacy.

Docket: For access to the docket to read background documents or comments received, go to http://www.regulations.gov or to the street address listed above. Follow the online instructions for accessing the dockets.

FOR FURTHER INFORMATION CONTACT: For policy issues, please email NETTCouncil@dot.gov or contact Philip Sung at 202-366-0442. For legal issues, please contact Sean Ford at 202-366-1841. Office hours are from 8 a.m. to 5 p.m., EST, Monday through Friday, except Federal holidays.

SUPPLEMENTARY INFORMATION:

Pathways for the Future of Transportation clarifies the purposes of the NETT Council and its methods of operation; lays the principles informing the Department policies in transformative technologies; provides a high-level overview of the regulatory framework for non-traditional and emerging technologies; proposes how innovators and entrepreneurs can engage the NETT Council to enhance the Nation's transportation system; and provides the next steps of the NETT Council. The pathways document is available at www.transportation.gov/nettcouncil.

The USDOT views the pathways document as laying the groundwork for emerging transportation technologies. To ensure that future work and next iterations are helpful and directly address the concerns of stakeholders, the USDOT is seeking public comments on the document and the next steps for the NETT Council. The Department plans to use any significant comments to inform the future work and direction of the Council.

Public Participation

How do I prepare and submit comments?

Your comments must be written in English. To ensure that your comments are filed correctly in the docket, please include the docket number of this document in your comments.

Please submit one copy (two copies if submitting by mail or hand delivery) of your comments, including the attachments, to the docket following the instructions given above under ADDRESSES. Please note, if you are submitting comments electronically as a PDF (Adobe) file, we ask that the documents submitted be scanned using an Optical Character Recognition (OCR) process, thus allowing the agency to search and copy certain portions of your submissions.

How do I submit confidential business information?

Any submissions containing Confidential Information must be delivered to OST in the following manner:

• Submitted in a sealed envelope marked “confidential treatment requested”;

• Document(s) or information that the submitter would like withheld should be marked “PROPIN”; Accompanied by an index listing the document(s) or information that the submitter would like the Departments to withhold. The index should include information such as numbers used to identify the relevant document(s) or information, document title and description, and relevant page numbers and/or section numbers within a document; and

• Submitted with a statement explaining the submitter's grounds for objecting to disclosure of the information to the public.

OST will treat such marked submissions as confidential under the FOIA, and will not include it in the public docket. OST also requests that submitters of Confidential Information include a non-confidential version (either redacted or summarized) of those confidential submissions in the public docket. In the event that the submitter cannot provide a non-confidential version of its submission, OST requests that the submitter post a notice in the docket stating that it has provided OST with Confidential Information. Should a submitter fail to docket either a non-confidential version of its submission or to post a notice that Confidential Information has been provided, we will note the receipt of the submission on the docket, with the submitter's organization or name (to the degree permitted by law) and the date of submission.

Will the agency consider late comments?

OST will consider all comments received before the close of business on the comment closing date indicated above under DATES. To the extent possible, the Agency will also consider comments received after that date.

How can I read the comments submitted by other people?

You may read the comments received at the address given above under Written Comments. The hours of the docket are indicated above in the same location. You may also see the comments on the internet, identified by the docket number at the heading of this notice, at http://www.regulations.gov.

Issued in Washington, DC, on July 23, 2020 under authority delegated at 49 CFR 1.25a.
Finch Fulton,
Deputy Assistant Secretary for Transportation Policy.

[FR Doc. 2020-16317 Filed 7-27-20; 8:45 am]

BILLING CODE 4910-9X-P